DEPARTMENT OF HOUSING AND URBAN DEVELOPMENT

[Docket No. FR-4676-N-05]

Indian Housing Block Grant Allocation Formula: Notice of Proposed Negotiated Rulemaking Committee Membership

AGENCY: Office of the Assistant Secretary for Public and Indian Housing, HUD.

ACTION: Notice of proposed negotiated rulemaking committee membership.

SUMMARY: HUD announces its list of proposed members for its Indian Housing Block Grant Allocation Formula Negotiated Rulemaking Committee, and requests public comments on the proposed membership. The committee will negotiate a proposed rule to revise the allocation formula used under the Indian Housing Block Grant (IHBG) Program. This document follows publication of July 16, 2001, and July 5, 2002, notices advising the public of HUD's intent to establish the negotiated rulemaking committee and soliciting nominations for membership on the committee.

DATES: Comment Due Date: February 21, 2003.

ADDRESSES: Interested persons are invited to submit comments regarding this notice to the Regulations Division, Room 10276, Office of General Counsel, Department of Housing and Urban Development, 451 Seventh Street, SW., Washington, DC 20410. Comments should refer to the above docket number and title. A copy of each comment submitted will be available for public inspection and copying between 8 a.m. and 5 p.m., weekdays, at the above address. Facsimile (FAX) comments will not be accepted.

FOR FURTHER INFORMATION CONTACT: Rodger Boyd, Deputy Assistant Secretary for Native American Programs, Room 4126, Office of Public and Indian Housing, Department of Housing and Urban Development, 451 Seventh Street, SW., Washington, DC 20410, telephone, (202) 401-7914 (this is not a toll-free number). Hearing or speech-impaired individuals may access this number via TTY by calling the toll-free Federal Information Relay Service at 1-800-877-8339.

SUPPLEMENTARY INFORMATION:

I. Background

With tribal participation, HUD developed the March 12, 1998 (63 FR 12349), final rule that implemented the Native American Housing Assistance and Self-Determination Act (25 U.S.C. 4101 et seq.) (NAHASDA). Following the procedures of the Negotiated Rulemaking Act of 1990 (5 U.S.C. 561-570), the committee negotiated the March 12, 1998, final rule, which created a new 24 CFR part 1000 containing the Indian Housing Block Grant (IHBG) regulations. NAHASDA established the IHBG Program by reorganizing housing assistance to Native Americans and eliminating and consolidating a number of HUD assistance programs. In addition to creating a single housing assistance program, NAHASDA provides federal assistance for Indian tribes in a manner that recognizes the right of Indian self-determination and tribal self-government.

On July 5, 2002 (67 FR 44787), HUD published a notice of intent to establish a committee to discuss and negotiate a proposed rule that would revise the allocation formula used under the IHBG Program. The amount of assistance made to Indian tribes is determined using this formula, developed as part of the NAHASDA negotiated rulemaking process. A regulatory description of this formula is located in subpart D of 24 CFR part 1000 (§§ 1000.301-1000.340). In general, the amount of funding for a tribe is the sum of the formula's need component and the Formula Current Assisted Stock (FCAS) component, subject to a minimum funding amount authorized by § 1000.328. Based on the amount of funding appropriated annually for the IHBG Program, HUD calculates the annual grant for each tribe and conveys this information to Indian tribes. An Indian Housing Plan (IHP) for the tribe is then submitted to HUD. If the IHP is found to be in compliance with the statutory and regulatory requirements, the grant is made. In federal fiscal year 2001, HUD allocated approximately $643.4 million to Indian tribes.

Section 1000.306 of the IHBG Program regulations provides that the allocation formula shall be reviewed within five years after issuance. This 5-year period does not close until March 2003, however, the Omnibus Indian Advancement Act (Pub. L. 105-568, approved December 27, 2000), makes several statutory changes to the IHBG allocation formula that HUD has decided to implement through rulemaking. Accordingly, HUD believes this would be an appropriate time to review the IHBG formula.

HUD first published a notice of intent to establish a negotiated rulemaking committee on July 16, 2001 (66 FR 37098), but due to the events of September 11, 2001, HUD was not able to act on the notice within the timeframes originally intended. Accordingly, HUD published the July 5, 2002, notice, which (1) again advised the public of HUD's intent to establish the negotiated rulemaking committee; (2) solicited public comments on the proposed membership of the committee; (3) explained how persons could be nominated for membership to the committee; and (4) announced the names of those who successfully completed applications under the original July 16, 2001, notice. In particular, HUD solicited committee members from among elected officers of tribal governments (or authorized designees of those tribal governments) with a definable stake in the outcome of a proposed rule.

II. Proposed Membership of Negotiated Rulemaking Committee

This notice announces HUD's list of proposed members to the negotiated rulemaking committee, and requests public comment on the proposed committee membership. In making its proposed selections for membership on the negotiated rulemaking committee, HUD's goal was to establish a committee whose membership reflects a balanced representation of Indian tribes. Selections were based on those nominees who met the eligibility criteria for membership contained in the two Federal Register notices. No distinction was made between persons nominated pursuant to the original July 16, 2001, notice and those nominated pursuant to the July 5, 2002, notice. In addition to the tribal members of the committee, there will be two HUD representatives on the negotiated rulemaking committee. After consideration of all the public comments received on this proposed list of committee members, HUD will announce the final composition of the negotiated rulemaking committee in a subsequent Federal Register notice.

HUD proposes to make the following selections for tribal membership on the negotiated rulemaking committee:

Eddie L. Tullis, Tribal Chairman, Poarch Band of Creek Indians, Atmore, Alabama.

Joel M. Frank, Housing Director, Seminole Tribe of Florida, Hollywood, Florida.

Beasley Denson, Vice Chief, Mississippi Band of Choctaw Indians, Choctaw, Mississippi.

Bruce K. LaPointe, Development Director, Sault St. Marie Housing Authority, Sault Ste. Marie, Michigan.

Bill Anoatubby, Governor, The Chickasaw Nation, Ada, Oklahoma.

Russell Sossamon, Executive Director, Housing Authority of the Choctaw Nation of Oklahoma, Hugo, Oklahoma.

Robert B. Carlile III, Executive Director, Citizen Potawatomi Nation Housing Authority, Shawnee, Oklahoma.

Marvin Jones, Executive Director, Community Services, Cherokee Nation, Tahlequah, Oklahoma.

Jack Sawyers, Executive Director, Utah Paiute Tribal Housing Authority, Cedar City, Utah.

Robert Gauthier, Executive Director, Salish and Kootenai Housing Authority, Pablo, Montana.

Wayne Ducheneaux, Executive Director, Cheyenne River Housing Authority, Eagle Butte, South Dakota.

Darlene Tooley, Executive Director, Northern Circle Indian Housing Authority, Ukiah, California.

Michael L. Reed, Chief Executive Officer, Cocopah Indian Housing and Development, Somerton, Arizona.

Terry Hudson, Executive Director, Northern Pueblos Housing Authority, Espanola, New Mexico.

Judith Marasco, Executive Director, Yurok Indian Housing Authority, Klamath, California.

Ervin Chavez, Vice Chairman, Board of Commissioners, Navajo Housing Authority, Window Rock, Navajo Nation, Arizona.

Brian Wallace, Chairman, Washoe Tribe of Nevada and California, South Gardnerville, Nevada.

Larry Coyle, Tribal Council Member, Cowlitz Tribe, Oakville, Washington.

Tim King, Tribal Council Member, Samish Indian Nation, Seattle, Washington.

Virginia Brings Yellow, Tribal Council Member, Quinault Indian Nation, Taholah, Washington.

Marty Shuravloff, Executive Director, Kodiak Island Housing Authority, Kodiak, Alaska.

Blake Y. Kazama, Executive Director, Tlingit-Haida Regional Housing Authority, Juneau, Alaska.

Ron Hoffman, Executive Director, Association of Village Council Presidents Regional Housing Authority, Bethel, Alaska.

Carol Gore, Executive Director, Cook Inlet Housing Authority, Anchorage, Alaska.

III. Committee Meetings

At this time, HUD has not yet finalized the schedule for the committee meetings. Advance notice of committee meetings will be published in the Federal Register. Meetings of the negotiated rulemaking committee will be open to the public without advance registration. Public attendance may be limited to the space available. Members of the public will be provided with an opportunity to make statements during the meeting to the extent that time permits, and file written statements with the committee for its consideration. In the event that the logistics of the committee meetings are changed, HUD will advise the public through Federal Register notice.

Dated: January 10, 2003.
Michael Liu,
Assistant Secretary for Public and Indian Housing.

[FR Doc. 03-1272 Filed 1-21-03; 8:45 am]

BILLING CODE 4210-33-P